DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Strategic Prevention Framework State Incentive Grant (SPF SIG) Program (OMB No. 0930-0279) —Revision

SAMHSA's Center for Substance Abuse Prevention (CSAP) is responsible for the evaluation instruments of the Strategic Prevention Framework State Incentive Grant (SPF SIG) Program. The program is a major initiative designed to: (1) Prevent the onset and reduce the progression of substance abuse, including childhood and underage drinking; (2) reduce substance abuse related problems; and (3) build prevention capacity and infrastructure at the State-, territorial-, Tribal- and community-levels.

Five steps comprise the SPF:

Step 1: Profile population needs, resources, and readiness to address the problems and gaps in service delivery.

Step 2: Mobilize and/or build capacity to address needs.

Step 3: Develop a comprehensive strategic plan.

Step 4: Implement evidence-based prevention programs, policies, and practices and infrastructure development activities.

Step 5: Monitor process, evaluate effectiveness, sustain effective programs/activities, and improve or replace those that fail.

An evaluation team is currently implementing a multi-method, quasi-experimental evaluation of the first two Strategic Prevention Framework State Incentive Grant (SPF SIG) cohorts receiving grants in FY 2004 and FY 2005. A second evaluation is being conducted with the SPF SIG Cohorts III, IV and V. This notice invites comments for revision to the protocol for the ongoing cross-site evaluations of the Strategic Prevention Framework State Incentive Grant (SPF SIG) (OMB No. 0930-0279) which expires on 11/30/12. This revision includes three parts:

(1) Continuation of the use of the previously approved two-part Community Level Instrument (CLI Parts I and II) for Cohorts I and II and the use of an instrument to assess the sustainability of grantee implementation and infrastructure accomplishments which is a modification of an instrument used in an earlier phase of the evaluation.

(2) The addition of one more Cohort (Cohort V) which will use the previously approved SPF SIG cross-site evaluation instruments. All three instruments are modified versions of data collection protocols used by Cohorts I and II and have received OMB approval (OMB No. 0930-0279). The three instruments are:

a. A Grantee-Level SPF Implementation Instrument,

b. A Grantee-Level Infrastructure Instrument, and

c. A two-part Community-Level SPF Implementation Instrument.

(3) Recalculation of burden numbers for Cohort IV to replace estimates that had been based on 20 grantees to reflect the 25 grantees actually funded.

An additional Cohort III, IV, and V evaluation component (i.e., participant-level NOMs outcomes) is also included in this submission as part of the comprehensive evaluation, however, no associated burden from this evaluation activity is being imposed and therefore clearance to conduct the activities is not being requested. Specifically, Cohort III, IV, and V SPF SIG grantees have been included in the currently OMB approved umbrella NOMs application (OMB No. 0930-0230) covering the collection of participant-level NOMs outcomes by all SAMHSA/CSAP grantees.

Every attempt has been made to make the evaluation for Cohorts III, IV, and V comparable to Cohorts I and II. However, initial resource constraints for the Cohorts III, IV, and V evaluation have necessitated some streamlining of the original evaluation design. Since the ultimate goal is to fund all eligible jurisdictions, there are no control groups at the grantee level for Cohorts III, IV, and V. The primary evaluation objective is to determine the impact of SPF SIG on the reduction of substance abuse related problems, on building State prevention capacity and infrastructure, and preventing the onset and reducing the progression of substance abuse, as measured by the SAMHSA National Outcomes Measures (NOMs). Data collected at the grantee, community, and participant levels will provide information about process and system outcomes at the grantee and community levels as well as context for analyzing participant-level NOMs outcomes.

Grantee-Level Data Collection

Cohort I and II Continuation

The Sustainability Interview will be conducted during Phase II of the evaluation in 2011 (Cohort I) and 2012 (Cohort II). The interview guide is adapted from the Phase I instruments (OMB No. 0930-0279) and focuses on State-level prevention capacity and infrastructure in relation to the five steps of the SPF process: needs assessment, capacity building, strategic planning, implementation of evidence-based programs, policies, and practices (EBPPPs), and evaluation/monitoring. The interviews will be aimed at understanding the status of the prevention infrastructure at the time of the interview, whether the status has changed since the previous rounds of interviews (conducted in 2007 and 2009), and whether the SPF SIG had any influence on changes that might have occurred.

Cohort III, IV, and V Revision

Two Grantee-level Instruments (GLI) were developed to gather information about the infrastructure of the grantee's overall prevention system and collect data regarding the grantee's efforts and progress in implementing the Strategic Prevention Framework 5-step process. Both instruments are modified versions of the grantee-level interview protocols used in the SPF SIG Cohort I and II Cross-Site Evaluation and have received OMB clearance for use with Cohorts III and IV (OMB No. 0930-0279). The total burden imposed by the original interview protocols has been reduced by restructuring the format of the original protocol, deleting several questions and replacing the majority of open-ended questions with multiple-choice-response questions. The Infrastructure Instrument will capture data to assess infrastructure change and to test the relationship of this change to outcomes. The Strategic Prevention Framework Implementation Instrument will be used to assess the relationship between SPF implementation and change in the NOMs. Information for both surveys will be gathered by the grantees' evaluators twice over the life of the SPF SIG award.

Based on the current 16 grantees funded in Cohort III, and 25 funded in Cohort IV, and 10 funded in Cohort V, the estimated annual burden for grantee-level data collection is displayed below in Table 1. The burden estimates for the GLIs are based on the experience in the Cohort I and II SPF SIG evaluation as reported in the original OMB submission (OMB No. 0930-0279), less the considerable reduction in length of these instruments implemented by the Cohort III, IV, and V evaluation team.

Community-Level Data Collection (Continuation and Revision)

Cohort I and II Continuation

The Community-level Instrument (CLI) is a two part, Web-based survey for capturing information about SPF SIG implementation at the community level (originally submitted as an addendum to OMB No. 0930-0279). Part I of this instrument was developed to assess the progress of communities as they implement the Strategic Prevention Framework (SPF), and Part II was developed to gather descriptive information about the specific interventions being implemented at the community level and the populations being served including the gender, age, race, ethnicity, and number of individuals in target populations. Each SPF SIG funded community will complete a separate Part II form for each intervention they implement.

The CLI (Parts I and II) was designed to be administered two times a year (every six months) over the course of the SPF SIG Cohort I and II initiative. Four rounds of data were collected under the current OMB approval period and the Cohorts I and II cross-site evaluation team plans to collect additional rounds once this request for a revision is approved. Data from this instrument will allow CSAP to assess the progress of the communities in their implementation of both the SPF and prevention-related interventions funded under the initiative. The data may also be used to assess obstacles to the implementation of the SPF and prevention-related interventions and facilitate mid-course corrections for communities experiencing implementation difficulties.

The estimated annual burden for community-level data collection is displayed below in Table 1. Note that the total burden reflects the 443 communities that have received SPF funds from their respective Cohort I and Cohort 2 States. Burden estimates are based on pilot respondents' feedback as well as the experience of the survey developers reported in the original OMB submission (OMB No. 0930-0279). Additionally, an individual community's burden may be lower than the burden displayed in Table 1 because all sections of the Community-level Instrument (parts I and II) may not apply for each reporting period as community partners work through the SPF steps and only report on the step-related activities addressed. Note also that some questions will be addressed only once and the responses will be used to pre-fill subsequent surveys.

Cohort III, IV, and V (Revision)

The Community-Level Instrument to be completed by Cohort III, IV, and V funded subrecipient communities is a modified version of the one in use in the SPF SIG Cohorts I and II Cross-Site Evaluation and use of these modified instruments has been approved by OMB for Cohorts III and IV (OMB No. 0930-0279). The total burden imposed by the original instrument was reduced by reorganizing the format of the original instrument, optimizing the use of skip patterns, and replacing the majority of open-ended questions with multiple-choice-response questions.

Part I of the instrument will gather information on the communities' progress implementing the five SPF SIG steps and efforts taken to ensure cultural competency throughout the SPF SIG process. Subrecipient communities receiving SPF SIG awards will be required to complete Part I of the instrument annually. Part 2 will capture data on the specific prevention intervention(s) implemented at the community level. A single prevention intervention may be comprised of a single strategy or a set of multiple strategies. A Part II instrument will be completed for each prevention intervention strategy implemented during the specified reporting period. Specific questions will be tailored to match the type of prevention intervention strategy implemented (e.g., Prevention Education, Community-based Processes, and Environmental). Information collected on each strategy will include date of implementation, numbers of groups and participants served, frequency of activities, and gender, age, race, and ethnicity of population served/affected. Subrecipient communities' partners receiving SPF SIG awards will be required to update Part II of the instrument a minimum of every six months.

The estimated annual burden for specific segments of the community-level data collection is displayed in Table 1. The burden estimates for the CLIs are based on the experience in the Cohort I and II SPF SIG evaluation as reported in the original OMB submission (OMB No. 0930-0279), less the considerable reduction in length of these instruments implemented by the Cohort III, IV, and V evaluation team. The total burden assumes an average of 15 community-level subrecipients per grantee (n=51 Grantees) for a total of 765 community respondents, annual completion of the CLI Part I, a minimum of two instrument updates per year for the CLI Part II, and an average of three distinct prevention intervention strategies implemented by each community during a 6-month period. Additionally, some questions will be addressed only once and the responses will be used to pre-fill subsequent updates.

Participant-Level Data Collection (Cohort III, IV, and V—Continuation)

Participant-level change will be measured using the CSAP NOMs Adult and Youth Programs Survey Forms already approved by OMB (OMB No. 0930-0230). Subrecipient communities will have the opportunity to select relevant measures from the CSAP NOMs Adult and Youth Programs Survey Forms based on site-specific targeted program outcomes and may voluntarily select additional outcome measures that are relevant to their own initiatives. Cohort III, IV, and V SPF SIG grantees have been included in the currently OMB approved umbrella NOMs application (OMB No. 0930-0230) covering all SAMHSA/CSAP grantees, therefore no additional burden for this evaluation activity is being imposed and clearance to conduct the activities is not being requested.

Total Estimates of Annualized Hour Burden

Estimates of total and annualized reporting burden for respondents by evaluation cohort are displayed below in Table 1. Overall summaries appear in Table 2. The estimated average annual burden of 5,773 hours is based on the completion of the Community Level-Instrument (CLI Parts I and II) and Sustainability Interview for Cohorts I and II, and the Grantee-level Instruments (GLI) and the Community-Level Instrument (CLI) for Cohorts III, IV, and V.

Table 1—Estimates of Annualized Hour Burden to Respondents
Instrument type | Respondent | Burden per response (hrs.) | No. of respondents | No. of responses per respondent | Total burden (hrs.) | Hourly wage cost | Total hour cost
Cohorts 1 and 2 Grantee-Level Burden
CLI Grantee Level Input | Grantee | 1 | 26 | 2 | 52.0 | $42.00 | $2,184
Sustainability Interview | Grantee | 1.5 | 26 | 1 | 39.0 | 42.00 | 1,638
Total Burden | Grantee | 2.5 | 26 | 3 | 91.0 | 42.00 | 3,822
Average Annual Burden Over 4 Reporting Periods | Grantee |  | 26 |  | 22.8 | 42.00 | 956
Cohorts 1 and 2 Community-Level Burden
CLI Part I | Community | 2.17 | 443 | 2 | 1,922.6 | 32.00 | 61,523
CLI Part II | Community | 2.17 | 443 | 8 | 7,690.5 | 32.00 | 246,095
Review of Past Responses | Community | 2.5 | 443 | 2 | 2,215.0 | 32.00 | 70,880
Total Burden | Community | 6.84 | 443 | 12 | 11,828.1 | 32.00 | 378,498
Average Annual Burden Over 4 Reporting Periods | Community |  | 443 |  | 2,957.0 | 32.00 | 94,625
Grantee-Level Burden Cohort 3
GLI Infrastructure Instrument | Grantee | 2.50 | 16 | 1 | 40.0 | 42.00 | 1,680
GLI Implementation Instrument | Grantee | 2.25 | 16 | 1 | 36.0 | 42.00 | 1,512
CLI Part I, 1—20: Community Contact Information—Updates | Grantee | 0.25 | 16 | 1 | 4.0 | 42.00 | 168
Total Burden | Grantee |  |  |  | 80.0 | 42.00 | 3,360
Average Annual Burden Over 4 Reporting Periods | Grantee |  |  |  | 20.0 | 42.00 | 840
Community-Level Burden Cohort 3
CLI Part I, 21-172: Community SPF Activities—Updates | Community | 0.75 | 240 | 1 | 180 | 32.00 | 5,760
CLI Part II—Updates | Community | 0.5 | 240 | 6 | 720 | 32.00 | 23,040
Total burden | Community |  |  |  | 900 | 32.00 | 28,800
Average Annual Burden Over 4 Reporting Periods | Community |  |  |  | 225 | 32.00 | 7,200
Grantee-Level Burden Cohort 4
GLI Infrastructure Instruments | Grantee | 2.50 | 25 | 1 | 62.5 | 42.00 | 2,625
GLI Implementation Instruments | Grantee | 2.25 | 25 | 2 | 112.5 | 42.00 | 4,725
CLI Part I, 1-20: Community Contact Information—Initialization | Grantee | 1.5 | 25 | 1 | 37.5 | 42.00 | 1,575
CLI Part I, 1-20: Community Contact Information—Updates | Grantee | 0.25 | 25 | 3 | 18.75 | 42.00 | 787
Total Burden | Grantee |  |  |  | 231.25 | 42.00 | 9,712
Average Annual Burden Over 4 Reporting Periods | Grantee |  |  |  | 57.8 | 42.00 | 2,428
Community-Level Burden Cohort 4
CLI Part I, 21-172: Community SPF Activities—Initialization | Community | 3 | 375 | 1 | 1,125 | 32.00 | 36,000
CLI Part II—Initialization | Community | 0.75 | 375 | 6 | 1,687.5 | 32.00 | 54,000
CLI Part I, 21-172: Community SPF Activities—Updates | Community | 0.75 | 375 | 3 | 843.75 | 32.00 | 27,000
CLI Part II—Updates | Community | 0.5 | 375 | 18 | 3,375 | 32.00 | 108,000
Total burden | Community |  |  |  | 7031.25 | 32.00 | 225,000
Average Annual Burden Over 4 Reporting Periods | Community |  |  |  | 1,757.8 | 32.00 | 56,250
Grantee-Level Burden Cohort 5
GLI Infrastructure Instruments | Grantee | 2.5 | 10 | 2 | 50 | 42.00 | 2,100
GLI Implementation Instruments | Grantee | 2.25 | 10 | 2 | 45 | 42.00 | 1,890
CLI Part I, 1-20: Community Contact Information—Initialization | Grantee | 1.5 | 10 | 1 | 15.0 | 42.00 | 630
CLI Part I, 1-20: Community Contact Information—Updates | Grantee | 0.25 | 10 | 3 | 7.5 | 42.00 | 315
Total Burden | Grantee |  |  |  | 117.5 | 42.00 | 4,935
Average Annual Burden Over 4 Reporting Periods | Grantee |  |  |  | 29.4 | 42.00 | 1,234
Community-Level Burden Cohort 5
CLI Part I, 21-172: Community SPF Activities—Initialization | Community | 3 | 150 | 1 | 450 | 32.00 | 14,400
CLI Part II—Initialization | Community | 0.75 | 150 | 6 | 675 | 32.00 | 21,600
CLI Part I, 21-172: Community SPF Activities—Updates | Community | 0.75 | 150 | 3 | 337.5 | 32.00 | 10,800
CLI Part II—Updates | Community | 0.5 | 150 | 18 | 1,350 | 32.00 | 43,200
Total burden | Community |  |  |  | 2,812.5 | 32.00 | 90,000
Average Annual Burden Over 4 Reporting Periods | Community |  |  |  | 703.12 | 32.00 | 22,500

Table 2—Annualized Summary Table
| Respondent | Burden per response (hrs.) | No. of respondents | No. of responses | Total burden (hrs.) | Hourly wage cost | Total hour cost
Total Burden All Cohorts
Average Annual Burden | Grantee | 1.44 | 77 | 90.25 | 129.9 | $42.00 | $5,455
| Community | 1.04 | 1208 | 5,424 | 5,643 | 32.00 | 180,576
| Overall | 1.05 | 1285 | 5,514.25 | 5,773 |  | 186,031

Written comments and recommendations concerning the proposed information collection should be sent by May 4, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: March 25, 2011.
Elaine Parry,
Director, Office of Management, Technology and Operations.

[FR Doc. 2011-7875 Filed 4-1-11; 8:45 am]

BILLING CODE 4162-20-P